DEPARTMENT OF LABOR

Employment and Training Administration

Notice of Determinations Regarding Eligibility To Apply for Worker Adjustment Assistance

In accordance with Section 223 of the Trade Act of 1974, as amended (19 U.S.C. 2273) the Department of Labor herein presents summaries of determinations regarding eligibility to apply for trade adjustment assistance for workers by (TA-W) number issued during the period of June 27, 2016 through July 8, 2016.

In order for an affirmative determination to be made for workers of a primary firm and a certification issued regarding eligibility to apply for worker adjustment assistance, each of the group eligibility requirements of Section 222(a) of the Act must be met.

I. Under Section 222(a)(2)(A), the following must be satisfied:

(1) A significant number or proportion of the workers in such workers' firm have become totally or partially separated, or are threatened to become totally or partially separated;

(2) the sales or production, or both, of such firm have decreased absolutely; and

(3) One of the following must be satisfied:

(A) Imports of articles or services like or directly competitive with articles produced or services supplied by such firm have increased;

(B) imports of articles like or directly competitive with articles into which one or more component parts produced by such firm are directly incorporated, have increased;

(C) imports of articles directly incorporating one or more component parts produced outside the United States that are like or directly competitive with imports of articles incorporating one or more component parts produced by such firm have increased;

(D) imports of articles like or directly competitive with articles which are produced directly using services supplied by such firm, have increased; and

(4) the increase in imports contributed importantly to such workers' separation or threat of separation and to the decline in the sales or production of such firm; or

II. Section 222(a)(2)(B) all of the following must be satisfied:

(1) A significant number or proportion of the workers in such workers' firm have become totally or partially separated, or are threatened to become totally or partially separated;

(2) One of the following must be satisfied:

(A) There has been a shift by the workers' firm to a foreign country in the production of articles or supply of services like or directly competitive with those produced/supplied by the workers' firm;

(B) there has been an acquisition from a foreign country by the workers' firm of articles/services that are like or directly competitive with those produced/supplied by the workers' firm; and

(3) the shift/acquisition contributed importantly to the workers' separation or threat of separation.

In order for an affirmative determination to be made for adversely affected secondary workers of a firm and a certification issued regarding eligibility to apply for worker adjustment assistance, each of the group eligibility requirements of Section 222(b) of the Act must be met.

(1) a significant number or proportion of the workers in the workers' firm have become totally or partially separated, or are threatened to become totally or partially separated;

(2) the workers' firm is a Supplier or Downstream Producer to a firm that employed a group of workers who received a certification of eligibility under Section 222(a) of the Act, and such supply or production is related to the article or service that was the basis for such certification; and

(3) either—

(A) the workers' firm is a supplier and the component parts it supplied to the firm described in paragraph (2) accounted for at least 20 percent of the production or sales of the workers' firm; or

(B) a loss of business by the workers' firm with the firm described in paragraph (2) contributed importantly to the workers' separation or threat of separation.

In order for an affirmative determination to be made for adversely affected workers in firms identified by the International Trade Commission and a certification issued regarding eligibility to apply for worker adjustment assistance, each of the group eligibility requirements of Section 222(e) of the Act must be met.

(1) the workers' firm is publicly identified by name by the International Trade Commission as a member of a domestic industry in an investigation resulting in—

(A) an affirmative determination of serious injury or threat thereof under section 202(b)(1);

(B) an affirmative determination of market disruption or threat thereof under section 421(b)(1); or

(C) an affirmative final determination of material injury or threat thereof under section 705(b)(1)(A) or 735(b)(1)(A) of the Tariff Act of 1930 (19 U.S.C. 1671d(b)(1)(A) and 1673d(b)(1)(A));

(2) the petition is filed during the 1-year period beginning on the date on which—

(A) a summary of the report submitted to the President by the International Trade Commission under section 202(f)(1) with respect to the affirmative determination described in paragraph (1)(A) is published in the Federal Register under section 202(f)(3); or

(B) notice of an affirmative determination described in subparagraph (1) is published in the Federal Register; and

(3) the workers have become totally or partially separated from the workers' firm within—

(A) the 1-year period described in paragraph (2); or

(B) not withstanding section 223(b)(1), the 1-year period preceding the 1-year period described in paragraph (2).

Affirmative Determinations for Worker Adjustment Assistance

The following certifications have been issued. The date following the company name and location of each determination references the impact date for all workers of such determination.

The following certifications have been issued. The requirements of Section 222(a)(2)(A) (increased imports) of the Trade Act have been met.

TA-W No. | Subject firm | Location | Impact date
90,043 | Polyfusion Electronics, Inc., Durham Staffing, Inc | Lancaster, NY | January 1, 2014.
90,063 | Oerlikon Fairfield, OC, Oerlikon Corporation AG | Lafayette, IN | March 27, 2015.
91,278 | Jewel Acquisition, LLC, ATI Flat Rolled Products Midland Operations, Allegheny Technologies, etc | Midland, PA | January 4, 2015.
91,539 | Genpact, LLC—Farmington Hills Office, Genpact International, Inc., Kelly Services, Inc | Farmington Hills, MI | March 2, 2015.
91,822 | GatewayCDI Inc. DBA Brand Addition, Express Services, Inc.; Kforce Professional Staffing, and Keystone | St. Louis, MO | May 18, 2015.
91,951 | Noranda Alumina, LLC, Noranda Aluminum Holding Corporation, DMI Contractors, Inc | Gramercy, LA | June 21, 2015.

The following certifications have been issued. The requirements of Section 222(a)(2)(B) (shift in production or services) of the Trade Act have been met.

TA-W No. | Subject firm | Location | Impact date
91,031 | Vestas American Wind Technology, Vestas Wind Systems A/S, General Ledger and Accounts Payable Departments | Portland, OR | October 6, 2014.
91,441 | Sealed Air Corporation (US), Cryovac, Inc., Sealed Air Corporation, Phillips Staffing, Robert Half, etc | Duncan, SC | August 7, 2015.
91,441A | Sealed Air Corporation (US), Cryovac, Inc., Sealed Air Corporation, Phillips Staffing | Greenville, SC | February 4, 2015.
91,441B | Sealed Air Corporation (US), Cryovac, Inc., Sealed Air Corporation | Danbury, CT | February 4, 2015.
91,566 | UBS Financial Services, Inc., Group Operations, Account Opening Division | Weehawken, NJ | March 8, 2015.
91,604 | Dairy Farmers of America, Inc | Springfield, MO | March 17, 2015.
91,718 | ITW Medical Division, ITW (Illinois Tool Works), SEEK Careers/Staffing, Inc | Sheboygan, WI | April 18, 2015.
91,728 | Bank of America, Consumer Sourcing Division | Chandler, AZ | April 21, 2015.
91,754 | QBE North Americas, INC., QBE Holdings, Inc | Bellevue, WA | April 27, 2015.
91,771 | QBE North Americas, Inc., QBE Holdings, Inc | Jacksonville, FL | May 3, 2015.
91,789 | Genpact, LLC, Finance Department, Genpact International, Inc., Manpower | Parsippany, NJ | May 9, 2015.
91,808 | Resolute Forest Products Augusta LLC, Augusta Staffing | Augusta, GA | May 12, 2015.
91,838 | Crawford & Company, Information and Communications Technology Division | Sunrise, FL | May 23, 2015.
91,839 | Crawford & Company, Information and Communications Technology Division | Lake Zurich, IL | May 25, 2015.
91,840 | Crawford & Company, Information and Communications Technology Division | Atlanta, GA | May 25, 2015.
91,868 | Hewlett Packard, Inc., Global Indirect Procurement Division | Vancouver, WA | May 26, 2015.
91,888 | T-Systems North America, Inc., Deutsche Telekom, Aptuity, Finezi, ICON, Pinnacle, Recruit 121, etc | Tempe, AZ | June 7, 2015.
91,889 | Siemens Corporate, IT Americas Division | Buffalo Grove, IL | May 12, 2015.
91,892 | CDK Global, LLC, Aerotek/Teksystems, Apex Systems, Inc., Edgelink, LLC, etc | Portland, OR | June 8, 2015.
91,896 | Smilebox, Inc., Incredimail, Inc., Accountemps, Aim Consulting, Arper & CO, etc | Redmond, WA | June 8, 2015.
91,905 | Hodges Trucking Company, LLC, Rodan Transport (U.S.A.) Ltd, Office Administration Division | Oklahoma City, OK | June 9, 2015.
91,914 | Ocwen Loan Servicing, LLC, Kelly Vendor Management Services, Ocwen Financial Corporation | West Palm Beach, FL | June 10, 2015.
91,914A | Ocwen Loan Servicing, LLC, Ocwen Financial Corporation | Coppell, TX | April 25, 2015.
91,914B | Kelly Vendor Management Services, Ocwen Loan Servicing, LLC | Coppell, TX | June 10, 2015.
91,929 | Sandvik, Inc., Sandvik Coromant, Sandvik AB, Complete Staffing Services, Inc., etc | Stafford, TX | June 16, 2015.
91,939 | Graphic Packaging International Inc | Menasha, WI | June 20, 2015.

The following certifications have been issued. The requirements of Section 222(b) (supplier to a firm whose workers are certified eligible to apply for TAA) of the Trade Act have been met.

TA-W No. | Subject firm | Location | Impact date
91,296 | Tritec of Minnesota, Inc | Virginia, MN | January 6, 2015.

Negative Determinations for Worker Adjustment Assistance

In the following cases, the investigation revealed that the eligibility criteria for worker adjustment assistance have not been met for the reasons specified.

The investigation revealed that the criterion under paragraph (a)(1) and (b)(1) (employment decline or threat of separation) of section 222 has not been met.

TA-W No. | Subject firm | Location | Impact date
90,232 | International Business Machines (IBM), Management Consulting Digital Operations, Global Business Services | Glendale, CA
90,238 | BIC Corporation, BIC Fuel Cell Project, Kelly Services | Milford, CT
90,240 | ABB, Inc., High Voltage Service Division, Pontoon Solutions | Greensburg, PA

The investigation revealed that the criteria under paragraphs (a)(2)(A)(i) (decline in sales or production, or both) and (a)(2)(B) (shift in production or services to a foreign country) of section 222 have not been met.

TA-W No. | Subject firm | Location | Impact date
91,097 | Toyota Auto Body California (TABC), Inc., TABC Holding, Aerotek Services | Long Beach, CA
91,253 | Cast Corporation | Hibbing, MN
91,414 | Keywell Metals LLC, FKA SGK Ventures (FKA Keywell LLC) | Falconer, NY

The investigation revealed that the criteria under paragraphs(a)(2)(A) (increased imports) and (a)(2)(B) (shift in production or services to a foreign country) of section 222 have not been met.

TA-W No. | Subject firm | Location | Impact date
90,007 | Swiss International Airlines Ltd | East Meadow, NY
91,213 | Superior Rock Bit Company | Virginia, MN
91,269 | Dom-Ex, Inc., H-E Parts International | Hibbing, MN
91,269A | Crown Parts & Machine, Inc., H-E Parts International, Mining Solutions | Hibbing, MN
91,447 | National OilWell Varco L.P., Nov Hydra Rig | Duncan, OK
91,724 | Newpark Drilling Fluids LLC, North America Region, AIP Inc., and Upstream Fluid Consultants, LLC | Katy, TX
91,785 | Campbell Global, LLC, OMAM, Inc. | Fort Bragg, CA
91,842 | Hewlett Packard Enterprise, f/k/a Hewlett Packard Corporation, ES EUWS AMS ITO-CITI Support Unit | Jersey City, NJ

Determinations Terminating Investigations of Petitions for Worker Adjustment Assistance

After notice of the petitions was published in the Federal Register and on the Department's Web site, as required by Section 221 of the Act (19 U.S.C. 2271), the Department initiated investigations of these petitions.

The following determinations terminating investigations were issued because the petitioning groups of workers are covered by active certifications. Consequently, further investigation in these cases would serve no purpose since the petitioning group of workers cannot be covered by more than one certification at a time.

TA-W No. | Subject firm | Location | Impact date
91,705 | D+H USA Corp/Harland Financial Solutions, Inc. | Portland, OR
91,749 | Premise Health | Brentwood, TN

The following determinations terminating investigations were issued because the petitions are the subject of ongoing investigations under petitions filed earlier covering the same petitioners.

TA-W No. | Subject firm | Location | Impact date
91,742 | General Electric Company, D/B/A GE Capacitor and Power Quality Products, Energy Connections Division | Fort Edward, NY
91,833 | EMC Corporation, Disk Library for Mainframe (DLM) Division | Hopkinton, MA

I hereby certify that the aforementioned determinations were issued during the period of June 27, 2016 through July 8, 2016. These determinations are available on the Department's Web site https://www.doleta.gov/tradeact/taa/taa_search_form.cfm under the searchable listing determinations or by calling the Office of Trade Adjustment Assistance toll free at 888-365-6822.

Signed at Washington, DC, this 14th day of July 2016.
Jessica R. Webster,
Certifying Officer, Office of Trade Adjustment Assistance.

[FR Doc. 2016-18411 Filed 8-3-16; 8:45 am]

BILLING CODE 4510-FN-P